DEPARTMENT OF COMMERCE

International Trade Administration

[A-201-828]

Notice of Final Determination of Sales at Less Than Fair Value: Welded Large Diameter Line Pipe From Mexico

AGENCY: Import Administration, International Trade Administration, Department of Commerce.

ACTION: Notice of the final determination of sales at less than fair value investigation: welded large diameter line pipe from Mexico.

SUMMARY: On August 15, 2001, the Department of Commerce (“Department”) published the preliminary determination in the less than fair value (“LTFV”) investigation of welded large diameter line pipe from Mexico. See Notice of Preliminary Determination of Sales at Less Than Fair Value: Welded Large Diameter Line Pipe from Mexico, 66 FR 42841 (August 15, 2001) (“Preliminary Determination”). This investigation covers one manufacturer/exporter of the subject merchandise.

Based upon our verification of the data and analysis of the comments received, we have not made changes to our margin calculations. Therefore, the final determination does not differ from the preliminary determination. The final weighted-average dumping margin is listed below in the section titled “Continuation of Suspension of Liquidation.”

EFFECTIVE DATE: January 4, 2002.

FOR FURTHER INFORMATION CONTACT: Mesbah Motamed or Robert Bolling, Enforcement Group III, Office 9, Import Administration, International Trade Administration, U.S. Department of Commerce, 1401 Constitution Avenue, NW., Washington, DC 20230, telephone 202-482-1382 (Motamed) or 202-482-3434 (Bolling), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2000).

Period of Investigation

The period of investigation (“POI”) is January 1, 2000 through December 31, 2000.

Final Determination

We determine that certain welded large diameter line pipe from Mexico is being, or is likely to be, sold in the United States at less than fair value (“LTFV”), as provided in section 735 of the Act. The estimated margins of sales at LTFV are shown in the “Continuation of Suspension of Liquidation” section of this notice.

Background

On January 30, 2001, the Department initiated the above referenced investigation. See Notice of Initiation of Antidumping Duty Investigations: Welded Large Diameter Line Pipe from Mexico and Japan, 66 FR 11266 (February 23, 2001). On August 15, 2001, the Department published a notice of its preliminary determination in the investigation. See Preliminary Determination, 66 FR 42841. From October 31, 2001 through November 5, 2001, the Department conducted a sales and cost verification for Productora Mexicana de Tuberia (“PMT”). See Sales and Cost Verification Report (November 14, 2001). We invited parties to comment on our Preliminary Determination. Petitioners submitted their case brief (“Petitioners' Brief”) on November 21, 2001. PMT did not submit a case brief or a rebuttal brief. The Department has conducted and completed the investigation in accordance with section 735 of the Act.

Scope of the Investigation

The product covered by this investigation is certain welded carbon and alloy line pipe, of circular cross section and with an outside diameter greater than 16 inches, but less than 64 inches, in diameter, whether or not stenciled. This product is normally produced according to American Petroleum Institute (API) specifications, including Grades A25, A, B, and X grades ranging from X42 to X80, but can also be produced to other specifications.

Specifically not included within the scope of this investigation is American Water Works Association (AWWA) specification water and sewage pipe and the following size/grade combinations of line pipe:

• Having an outside diameter greater than or equal to 18 inches and less than or equal to 22 inches, with a wall thickness measuring 0.750 inch or greater, regardless of grade.

• Having an outside diameter greater than or equal to 24 inches and less than 30 inches, with wall thickness measuring greater than 0.875 inches in grades A, B, and X42, with wall thickness measuring greater than 0.750 inches in grades X52 through X56, and with wall thickness measuring greater than 0.688 inches in grades X60 or greater.

• Having an outside diameter greater than or equal to 30 inches and less than 36 inches, with wall thickness measuring greater than 1.250 inches in grades A, B, and X42, with wall thickness measuring greater than 1.000 inches in grades X52 through X56, and with wall thickness measuring greater than 0.875 inches in grades X60 or greater.

• Having an outside diameter greater than or equal to 36 inches and less than 42 inches, with wall thickness measuring greater than 1.375 inches in grades A, B, and X42, with wall thickness measuring greater than 1.250 inches in grades X52 through X56, and with wall thickness measuring greater than 1.125 inches in grades X60 or greater.

• Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

• Having an outside diameter equal to 48 inches, with a wall thickness measuring 1.0 inch or greater, in grades X-80 or greater.

The product currently is classified under U.S. Harmonized Tariff Schedule (“HTSUS”) item numbers 7305.11.10.30, 7305.11.10.60, 7305.11.50.00, 7305.12.10.30, 7305.12.10.60, 7305.12.50.00, 7305.19.10.30, 7305.19.10.60, and 7305.19.50.00. Although the HTSUS item numbers are provided for convenience and customs purposes, the written description of the scope is dispositive.

Analysis of Comments Received

All issues raised in the case briefs to this investigation are addressed in the December 28, 2001 Issues and Decision Memorandum (“Decision Memo”) from Joseph A. Spetrini, Deputy Assistant Secretary for Import Administration, Group III to Faryar Shirzad, Assistant Secretary for Import Administration, which is hereby adopted by this notice. A list of the issues which parties have raised and to which we have responded, and other issues addressed, all of which are in the Decision Memo, is attached to this notice as an Appendix. Parties can find a complete discussion of all issues raised in this investigation and the corresponding recommendations in the Decision Memo, a public memorandum which is on file at the U.S. Department of Commerce, in the Central Records Unit, in room B-099. In addition, a complete version of the Decision Memo can be accessed directly on the Web at http://ia.ita.doc.gov. The paper copy and electronic version of the Decision Memo are identical in content.

Use of Total Adverse Facts Available

In the preliminary determination, the Department applied facts available to the mandatory respondent. Deficiencies present in respondent's response made it impossible for the Department to appropriately calculate a preliminary antidumping duty margin. Consequently, the Department assigned PMT-Tubacero the rate of 49.86 percent, the margin calculated from information in the petition and used for initiation. The Department also applied the 49.86 percent margin as the “All Others” rate.

Subsequent to the preliminary determination, we have determined that the use of total adverse facts available is appropriate for the final determination for our analysis of PMT and its collapsed affiliate Tubacero, hereinafter referred to as “PMT-Tubacero.” For a discussion of our determination with respect to this matter, see the Decision Memo. Consequently, we have continued to apply the rate of 49.86 percent for purposes of this final determination.

All-Others Rate

Section 735(c)(5)(B) of the Act provides that, where the estimated weighted-average dumping margins established for all exporters and producers individually investigated are zero or de minimis margins, or are determined entirely under section 776 of the Act, the Department may use any reasonable method to establish the estimated “all-others” rate for exporters and producers not individually investigated. This provision contemplates that we weight-average margins other than facts available margins to establish the “all others” rate. Where the data do not permit weight-averaging such rates, the Statement of Administrative Action accompanying the URAA, H.R. Doc. No. 316, 103d Cong., 2d Sess. 870 (1994) (“SAA”) at 873 provides that we may use other reasonable methods. Because the petition contained only an estimated price-to-price dumping margin, which the Department adjusted for purposes of initiation, there are no additional estimated margins available with which to create the “all others” rate. Therefore, we applied the published margin of 49.86 percent as the “all others” rate.

Continuation of Suspension of Liquidation

In accordance with section 735(c)(1)(B) of the Act, we are directing the Customs Service to continue to suspend liquidation of all entries of subject merchandise from Mexico that are entered, or withdrawn from warehouse, for consumption on or after the date of publication of the Preliminary Determination in the Federal Register. The Customs Service shall continue to require a cash deposit or posting of a bond equal to the estimated amount by which the normal value exceeds the U.S. price as shown below. The suspension of liquidation instructions will remain in effect until further notice.

Stainless Steel Butt-Weld Pipe Fittings
Producer/Manufacturer/Exporter | Weighted- average margin (percent)
PMT-Tubacero | 49.86
All Others | 49.86

ITC Notification

In accordance with section 735(d) of the Act, we have notified the International Trade Commission (“ITC”) of our final determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing Customs to assess antidumping duties on all imports of the subject merchandise entered or withdrawn from warehouse for consumption on or after the effective date of the suspension of liquidation.

Notification Regarding APO

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of the APO is a sanctionable violation.

This determination is issued and published pursuant to sections 735(d) and 777(i)(1) of the Act.

Dated: December 28, 2001.
Richard W. Moreland,
Acting Assistant Secretary for Import Administration.

Appendix

Issues in the Decision Memo

1. The Department should continue to collapse respondent Productora Mexicana de Tuberia, S.A. de C.V. (“PMT”) with its affiliate, Tubacero, S.A. de C.V. (“Tubacero”).

2. The Department should apply adverse facts available in determining the antidumping duty margin.

[FR Doc. 02-244 Filed 1-3-02; 8:45 am]

BILLING CODE 3510-DS-P